NATIONAL AERONAUTICS AND SPACE ADMINISTRATION

48 CFR Part 1812

RIN 2700-AD00

Clauses Authorized for Use in Commercial Acquisitions

AGENCY: National Aeronautics and Space Administration.

ACTION: Final rule.

SUMMARY: This final rule revises the NASA FAR Supplement (NFS) by removing the NASA specific clause regarding Central Contractor Registration (CCR) from t he list of clauses authorized for use in acquisitions of commercial items. The NASA CCR clause was removed from the NFS in a final rule published in the Federal Register on February 3, 2004, however the rule failed to remove the clause from part 1812. This change corrects this omission.

DATES: Effective Date: May 14, 2004.

FOR FURTHER INFORMATION CONTACT: Celeste Dalton, NASA, Office of Procurement, Contract Management Division (Code HK); (202) 358-1645; e-mail: Celeste.M.Dalton@nasa.gov.

SUPPLEMENTARY INFORMATION:

A. Background

Item I of FAC 2001-16 revised the FAR to require registration of contractors in the Central Contractor Registration (CCR) database prior to award of any contract, basic agreement, basic ordering agreement, or blanket purchase agreement. As a result, NASA's specific coverage of CCR was no longer required and Subpart 1804.74—Central Contractor Registration and its associated clause at 1852.204-74 were deleted from the NFS under a final rule published in the Federal Register on February 3, 2004. Due to an oversight, the rule failed to remove 1852.204-74 from the list of clauses authorized for use in acquisitions of commercial items contained in the 1812.301, “Solicitation provisions and contract clauses for the acquisition of commercial items.” This final rule corrects this omission by removing the reference to 1852.204-74.

This is not a significant regulatory action and, therefore, was not subject to review under section 6(b) of Executive Order 12866, Regulatory Planning and Review, dated September 30, 1993. This rule is not a major rule under 5 U.S.C. 804.

B. Regulatory Flexibility Act

This final rule does not constitute a significant revision within the meaning of FAR 1.501 and Pub. L. 98-577, and publication for public comment is not required. However, NASA will consider comments from small entities concerning the affected NFS part 1812 in accordance with 5 U.S.C. 610.

C. Paperwork Reduction Act

The Paperwork Reduction Act does not apply because the changes do not impose recordkeeping or information collection requirements which require the approval of the Office of Management and Budget under 44 U.S.C. 3501, et seq.

List of Subjects in 48 CFR Part 1812

Government procurement.

Tom Luedtke,
Assistant Administrator for Procurement.

Accordingly, 48 CFR Part 1812 is amended as follows:

PART 1812—ACQUISITION OF COMMERCIAL ITEMS

1. The authority citation for 48 CFR part 1812 continues to read as follows:

Authority: 42 U.S.C. 2473(c)(1)

1812.301 [AMENDED]

2. Amend section 1812.301 by removing paragraph (f)(i)(A) and redesignating paragraphs (f)(i)(B) through (f)(i)(O) as (f)(i)(A) through (f)(i)(N), respectively.

[FR Doc. 04-10921 Filed 5-13-04; 8:45 am]

BILLING CODE 7510-01-M